ENVIRONMENTAL PROTECTION AGENCY

[FRL-6917-9]

Regulatory Reinvention (XL) Pilot Projects

AGENCY: Environmental Protection Agency (EPA).

ACTION: Notice of availability of the Project XL draft final project agreement and draft addenda for New Jersey Gold Task Program.

SUMMARY: EPA is requesting comments on a Draft Project XL Final Project Agreement (FPA) and Draft Addenda for the New Jersey Gold Track Program. The Draft FPA and Addenda are a voluntary agreement developed collaboratively by the New Jersey Department of Environmental Protection (NJDEP), stakeholders, and EPA. Project XL, announced in the Federal Register on May 23, 1995 (60 FR 27282), gives regulated entities, communities and states the flexibility to develop alternative strategies that will replace or modify specific regulatory or procedural requirements on the condition that they produce greater environmental benefits.

The Gold Track Project XL project embodies the final and highest tier of NJDEP's Silver and Gold Track Programs. NJDEP has led detailed stakeholder discussions to frame the Silver and Gold Track Program for Environmental Performance (Silver and Gold) since the summer of 1999. New Jersey's Silver and Gold Tracks are designed as a tiered system, requiring an increased level of commitment to environmental performance in return for concomitant regulatory flexibility.

The first or baseline tier, Silver Track, requires participating entities to meet certain core criteria in return for baseline incentives such as recognition as a top-performing company, a single point of contact in the department to expedite and coordinate permitting needs, and consolidated reporting (among others). The incentives offered under Silver Track are within the rubric of existing regulations, and, as such, do not require rule changes. The Silver Track portion of the program was implemented in September of 1999.

Silver Track II, the second tier of the program, maintains the original core requirements of the baseline tier, as well as some additional commitments. Participants must commit to attaining agreed-upon emission reductions of CO2 or Greenhouse Gas equivalents. In turn, participants will not have to seek certain pre-construction air permits for sources that emit less than prescribed de minimus emission levels.

The third and highest tier, Gold Track, which is covered by this Agreement, represents the highest degree of commitment by participating entities and additional incentives offered by the NJDEP. Gold Track is envisioned to be multi-media in scope, with this Agreement serving as an “umbrella” document to define basic criteria and processes for participation in Gold Track. Core requirements for participating in Gold Track include (among others): Certifying current compliance with all applicable environmental rules and regulations, demonstrating a historically acceptable compliance record, conducting advanced community outreach, having an Environmental Management System (EMS) with an independent third party review component, and entering into a covenant with NJDEP to memorialize commitments and incentives as well as accountability milestones for the duration of the project. Media-specific requirements for participation are presented in the draft media-specific addenda.

Implementing the negotiated incentives under Gold Track may require both federal and state rule changes, which NJDEP plans to pursue through EPA's Project XL Program. Current federal rule change requests from NJDEP are described in the draft media-specific addenda.

DATES: The period for submission of comments ends on January 19, 2001.

ADDRESSES: All comments on the proposed Final Project Agreement should be sent to: Aleksandra Dobkowski-Joy, USEPA, 290 Broadway, New York, NY 10007, or Chad Carbone, U.S. EPA, Room 1027WT (1802), 1200 Pennsylvania Ave., NW., Washington, DC 20460. Comments may also be faxed to Ms. Dobkowski-Joy (212) 637-5045, or Mr. Carbone (202) 260-1812. Comments may also be received via electronic mail sent to: dobkowski.aleksandra@epa.gov or carbone.chad@epa.gov.

FOR FURTHER INFORMATION CONTACT: To obtain a copy of the proposed Final Project Agreement or Fact Sheet, contact: Aleksandra Dobkowski-Joy, USEPA, 290 Broadway, New York, NY 10007, or Chad Carbone, U.S. EPA, Room 1027WT (1802), 1200 Pennsylvania Ave., NW., Washington, DC 20460. The FPA and related documents are also available via the Internet at the following location: http://www.epa.gov/ProjectXL. Questions to EPA regarding the documents can be directed to Aleksandra Dobkowski-Joy at (212) 637-3676 or Chad Carbone at (202) 260-4296. For information on all other aspects of the XL Program contact Christopher Knopes at the following address: Office of Policy, Economics and Innovation, United States Environmental Projection Agency, 1200 Pennsylvania Ave., NW., Room 1029WT (Mail Code 1802), Washington, DC 20460. Additional information on Project XL, including documents referenced in this notice, other EPA policy documents related to Project XL, regional XL contacts, application information, and descriptions of existing XL projects and proposals, is available via the Internet at http://www.epa.gov/ProjectXL.

Dated: December 15, 2000.
Elizabeth A. Shaw,
Director, Office of Environmental Policy Innovation.

[FR Doc. 00-32530 Filed 12-19-00; 8:45 am]

BILLING CODE 6560-50-M